FEDERAL MARITIME COMMISSION

Ocean Transportation Intermediary License Reissuance

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/address | Date reissued
019880NF | Transmax Logistics Corporation, 830 E. Higgins Road, Suite 111-A, Schaumburg, IL 60173 | February 11, 2010.
020479F | Karon Jones dba Keene Machinery and Export, 425 Sandy Lane, Dublin, TX 76446 | February 11, 2010.
016886N | Maritrans Shipping, Ltd., 170 East Sunrise Highway, Valley Stream, NY 11581 | February 15, 2010.
021932N | Cargolinx Inc., 6405 NW. 36th Street, Suite 107, Miami, FL 33166 | February 27, 2010.

Sandra L. Kusumoto,
Director, Bureau of Certification and Licensing.

[FR Doc. 2010-7890 Filed 4-6-10; 8:45 am]

BILLING CODE 6730-01-P